DEPARTMENT OF COMMERCE

National Oceanic and Atmospheric Administration

RIN 0648-XC890

Pacific Fishery Management Council; Public Meeting

AGENCY: National Marine Fisheries Service (NMFS), National Oceanic and Atmospheric Administration (NOAA), Commerce.

ACTION: Notice of public meeting.

SUMMARY: The Pacific Fishery Management Council (Pacific Council) will hold a work session for the Groundfish Electronic Monitoring Policy Advisory Committee and Groundfish Electronic Monitoring Technical Advisory Committee (GEM Committees), which is open to the public.

DATES: The meeting will be held October 15, 2013, from 9 a.m. until the earlier of 5 p.m. or when business for that day has been completed, and on October 16, from 8 a.m. until the earlier of 5 p.m. or when business for that day has been completed.

ADDRESSES: The meeting will be held at Watertown Hotel Seattle, 4242 Roosevelt Way NE., Seattle, WA 98105; telephone: (206) 826-4242.

Council address: Pacific Council, 7700 NE Ambassador Place, Suite 101, Portland, OR 97220-1384.

FOR FURTHER INFORMATION CONTACT: Mr. Brett Wiedoff, Staff Officer, Pacific Council; telephone: (503) 820-2280.

SUPPLEMENTARY INFORMATION: The primary purpose of the meeting is to discuss and develop potential alternatives for electronic monitoring (EM) for vessels participating in the West Coast groundfish trawl rationalization program for consideration by the Pacific Council, and to develop other recommendations as needed to further the Pacific Council process for considering EM. No management actions will be decided at this meeting. The meeting will include review of current and developing EM programs for other fisheries, and EM reports to guide discussions and the development of alternatives.

Although non-emergency issues not contained in the meeting agenda may come before the GEM Committees for discussion, those issues may not be the subject of formal action during this meeting. The meeting will be restricted to those issues specifically listed in this notice and any issues arising after publication of this notice that require emergency action under section 305(c) of the Magnuson-Stevens Fishery Conservation and Management Act, provided the public has been notified of the GEM committees' intent to take final action to address the emergency. A meeting report, including potential alternatives, will be prepared by Pacific Council staff for consideration by the Pacific Council at its November 2013 meeting in Costa Mesa, CA.

Special Accommodations

This meeting is physically accessible to people with disabilities. Requests for sign language interpretation or other auxiliary aids should be directed to Mr. Kris Kleinschmidt at (503) 820-2280 at least five days prior to the meeting date.

Dated: September 24, 2013.
Tracey L. Thompson,
Acting Deputy Director, Office of Sustainable Fisheries, National Marine Fisheries Service.

[FR Doc. 2013-23613 Filed 9-26-13; 8:45 am]

BILLING CODE 3510-22-P